DEPARTMENT OF ENERGY

Federal Energy Regulatory Commission

[Docket No. AC05-7-000, et al.]

American Transmission Systems, Inc., et al.; Electric Rate and Corporate Filings

November 24, 2004.

The following filings have been made with the Commission. The filings are listed in ascending order within each docket classification.

1. American Transmission Systems, Inc.

[Docket No. AC05-7-000]

Take notice that on November 1, 2004, FirstEnergy Service Company, a wholly owned subsidiary of FirstEnergy Corp. (FirstEnergy), on behalf of American Transmission Systems, Incorporation (ATSI), submitted a request for authorization to defer certain extraordinary vegetation management costs as a regulatory asset and amortize the same costs over a specified 5-year future period. ATSI, also a wholly owned subsidiary of FirstEnergy, states that it owns the Company's jurisdictional transmission facilities in Ohio and a portion of western Pennsylvania. ATSI also states that its transmission facilities are under the operational control of the Midwest Independent System Operator.

Comment Date: 5 p.m. eastern time on December 13, 2004.

2. PPL Sundance Energy, LLC PPL EnergyPlus, LLC, Arizona Public Service Company

[Docket No. EC05-20-000]

Take notice that on November 22, 2004, PPL Sundance Energy, LLC (PPL Sundance), PPL EnergyPlus, LLC (PPL EnergyPlus) and Arizona Public Service Company (APS) (collectively, the Applicants) filed with the Federal Energy Regulatory Commission pursuant to section 203 of the Federal Power Act (FPA), 16 U.S.C. 824b, and part 33 of the Commission's regulations, 18 CFR part 33, an application for authorization of a disposition and acquisition of jurisdictional facilities. Applicants state that the transaction for which authorization is sought is the transfer by PPL Sundance through sale, and the acquisition by APS through purchase of the nominally rated 450 MW PPL Sundance generating facility located in Pinal County, Arizona, as well as the transfer of a jurisdictional contract. The Applicants request confidential treatment of certain portions of the Asset Purchase Agreement relating to the proposed transaction, and have provided redacted versions that omit the confidential information.

Comment Date: 5 p.m. eastern time on December 30, 2004.

3. Tenaska Alabama II Partners, L.P., Complainant, v. Alabama Power Company and Southern Company Services, Inc., Respondents

[Docket No. EL05-25-000]

Take notice that on November 22, 2004, Tenaska Alabama II Partners, L.P. (Tenaska Alabama II) filed a Complaint with the Commission, pursuant to Section 206 of the Federal Power Act, against Alabama Power Company and Southern Company Services, Inc. (collectively, Southern Company). The Complaint asserts that Southern Company is violating the Commission's Interconnection Policy, engaging in prohibited “and” pricing, and charging unjust and unreasonable rates because Southern Company has misclassified certain interconnection-related facilities in the Tenaska Alabama II-Southern Company Interconnection Agreement and is refusing to provide transmission credits for facilities that should properly be classified as Network Upgrades under the Commission's Interconnection Policy.

Tenaska Alabama II states that copies of the Complaint have been served on Southern Company.

4. Tenaska Alabama Partners, L.P., Complainant, v. Alabama Power Company and Southern Company Services, Inc., Respondents

[Docket No. EL05-26-000]

Take notice that on November 22, 2004, Tenaska Alabama Partners, L.P. (Tenaska Alabama) filed a Complaint with the Commission, pursuant to section 206 of the Federal Power Act, against Alabama Power Company and Southern Company Services, Inc. (collectively, Southern Company). The Complaint asserts that Southern Company is violating the Commission's Interconnection Policy, engaging in prohibited “and” pricing, and charging unjust and unreasonable rates because Southern Company has misclassified certain interconnection-related facilities in the Tenaska Alabama-Southern Company Interconnection Agreement and is refusing to provide transmission credits for facilities that should properly be classified as Network Upgrades under the Commission's Interconnection Policy.

Tenaska Alabama states that copies of the Complaint have been served on Southern Company.

Comment Date: 5 p.m. eastern time on December 14, 2004.

5. Tenaska Georgia Partners, L.P., Complainant, v. Georgia Power Company and Southern Company Services, Inc., Respondents

[Docket No. EL05-27-000]

Take notice that on November 22, 2004, Tenaska Georgia Partners, L.P. (Tenaska Georgia) filed a Complaint with the Commission, pursuant to Section 206 of the Federal Power Act, against Georgia Power Company and Southern Company Services, Inc. (collectively, Southern Company). The Complaint asserts that Southern Company is violating the Commission's Interconnection Policy, engaging in prohibited “and” pricing, and charging unjust and unreasonable rates because Southern Company has misclassified certain interconnection-related facilities in the Tenaska Georgia-Southern Company Interconnection Agreement and is refusing to provide transmission credits for facilities that should properly be classified as Network Upgrades under the Commission's Interconnection Policy.

Tenaska Georgia states that copies of the Complaint have been served on Southern Company.

Comment Date: 5 p.m. eastern time on December 14, 2004.

6. CL Power Sales One, L.L.C., CL Power Sales Two, L.L.C., CL Power Sales Seven, L.L.C., CL Power Sales Eight, L.L.C., CL Power Sales Ten, L.L.C.

[Docket Nos. ER95-892-057 and ER96-2652-051]

Take notice that on November 18, 2004, Edison Mission Marketing & Trading, Inc., on behalf of its public utility affiliates listed above, filed an amendment to its November 9, 2004 filing in Docket Nos. ER95-892-056 and ER96-2652-050.

Comment Date: 5 p.m. eastern time on December 9, 2004.

7. Consolidated Edison Company of New York, Inc., Orange and Rockland Utilities, Inc., Consolidated Edison Energy, Inc., Consolidated Edison Solutions, Inc., Ocean Peaking Power, L.L.C., CED Rock Springs, Inc., Consolidated Edison Energy of Massachusetts, Inc., Lakewood Cogeneration, L.P., Newington Energy, L.L.C.

[Docket Nos. ER99-2251-002, ER98-2491-008, ER97-705-013, ER02-2080-002, ER02-2546-003, ER99-3248-005, ER99-1213-003, and ER01-1526-003]

Take notice that on November 18, 2004, Consolidated Edison Company of New York, Inc., Orange and Rockland Utilities, Inc., Consolidated Edison Energy, Inc., Consolidated Edison Solutions, Inc., Ocean Peaking Power L.L.C., CED Rock Springs, Inc., Consolidated Edison Energy of Massachusetts, Inc., Lakewood Cogeneration, L.P., and Newington Energy, L.L.C. (collectively, the Con Edison Companies) submitted for filing their triennial market power analysis.

Comment Date: 5 p.m. eastern time on December 9, 2004.

8. PJM Interconnection, L.L.C.

[Docket No. ER05-85-001]

Take notice that on November 19, 2004 PJM Interconnection, L.L.C. (PJM) and Duquesne Light Company (Duquesne Light) filed an amendment to their October 28, 2004, filing in Docket No. ER05-85-001 to formally identify a Duquesne Light grandfathered transmission service agreement and briefly describe how such agreement will be implemented following the integration of Duquesne Light into the PJM markets and tariff on January 1, 2005.

PJM and Duquesne Light state that copies of the filing were served upon all persons on the Commission's service list for this proceeding.

Comment Date: 5 p.m. eastern time on December 3, 2004.

9. Midwest Independent Transmission System Operator, Inc.

[Docket No. ER05-232-000]

Take notice that on November 18, 2004, the Midwest Independent Transmission System Operator, Inc. (Midwest ISO) submitted an Interconnection and Operating Agreement among GM Transmission, LLC, Northern States Power Company d/b/a Xcel Energy and the Midwest ISO. Midwest ISO requests an effective date of November 10, 2004.

Midwest ISO states that a copy of this filing was served on GM Transmission, LLC and Northern States Power Company d/b/a Xcel Energy.

Comment Date: 5 p.m. eastern time on December 9, 2004.

10. MGE Power West Campus LLC

[Docket No. ER05-233-000]

Take notice that on November 18, 2004, MGE Power West Campus LLC (West Campus) submitted for filing a Power Purchase Agreement Providing for Sales of Test Power between West Campus and Madison Gas and Electric Company. West Campus requests an effective date of January 18, 2005.

West Campus states that copies of the filing were served upon the Public Service Commission of Wisconsin.

Comment Date: 5 p.m. eastern time on December 9, 2004.

11. Rayo Energy, LLC

[Docket No. ER05-234-000]

Take notice that on November 18, 2004, Rayo Energy, LLC (Rayo) filed a notice of withdrawal of its market based rates authorization in Docket Nos. ER03-782-000 and 001.

Comment Date: 5 p.m. eastern time on December 9, 2004.

12. El Paso Marketing, L.P.

[Docket No. ER05-235-000]

Take notice that on November 18, 2004, El Paso Marketing, L.P. (El Paso Marketing) filed a Notice of Succession stating that pursuant to a corporate name change, it is adopting El Paso Merchant Energy, L.P.'s market-based rate authorizations and its FERC Electric Rate Schedule No. 1. El Paso Marketing requests an effective date of November 9, 2004.

Comment Date: 5 p.m. eastern time on December 9, 2004.

13. Northeast Energy Associates, a Limited Partnership

[Docket No. ER05-236-000]

Take notice that on November 18, 2004, Northeast Energy Associates, a Limited Partnership submitted an application for market-based rate authority. Applicant requests an effective date of January 2, 2005.

Applicant states that copies of the filing were served upon the Florida Public Service Commission.

Comment Date: 5 p.m. eastern time on December 9, 2004.

14. American Transmission Company LLC

[Docket No. ER05-237-000]

Take notice that on November 18, 2004, American Transmission Company LLC (ATCLLC) tendered for filing a Distribution-Transmission Interconnection Agreement between ATCLLC and Mount Horeb Electric Utility. ATCLLC requests an effective date of April 8, 2004.

Comment Date: 5 p.m. eastern time on December 9, 2004.

15. American Transmission Company LLC

[Docket No. ER05-238-000]

Take notice that on November 18, 2004, American Transmission Company LLC (ATCLLC) tendered for filing a Distribution-Transmission Interconnection Agreement between ATCLLC and Mazomanie Electric Utility. ATCLLC requests an effective date of May 27, 2004.

Comment Date: 5 p.m. eastern time on December 9, 2004.

16. American Transmission Company LLC

[Docket No. ER05-239-000]

Take notice that on November 18, 2004, American Transmission Company LLC (ATCLLC) tendered for filing a Distribution-Transmission Interconnection Agreement between ATCLLC and Wisconsin Dells Electric Utility. ATCLLC requests an effective date of April 30, 2004.

Comment Date: 5 p.m. eastern time on December 9, 2004.

17. American Transmission Company LLC

[Docket No. ER05-240-000]

Take notice that on November 18, 2004, American Transmission Company LLC (ATCLLC) tendered for filing a Distribution-Transmission Interconnection Agreement between ATCLLC and Pioneer Power and Light. ATCLLC requests an effective date of June 29, 2004.

Comment Date: 5 p.m. eastern time on December 9, 2004.

18. American Transmission Company LLC

[Docket No. ER05-241-000]

Take notice that on November 18, 2004, American Transmission Company LLC (ATCLLC) tendered for filing a Distribution-Transmission Interconnection Agreement between ATCLLC and Stoughton Municipal Utilities. ATCLLC requests an effective date of September 29, 2004.

Comment Date: 5 p.m. eastern time on December 9, 2004.

19. Calpine King City Cogen, LLC

[Docket No. QF85-735-006]

Take notice that on November 16, 2004, Calpine King City Cogen, LLC (Calpine), filed with the Federal Energy Regulatory Commission an application for recertification of a facility as a qualifying cogeneration facility pursuant to 18 CFR 292.207(b) of the Commission's regulations. No determination has been made that the submittal constitutes a complete filing.

Comment Date: 5 p.m. eastern time on December 16, 2004.

20. ISO New England, Inc.

[Docket No. ES05-13-000]

Take notice that on November 13, 2004, ISO New England, Inc. (ISO-NE) submitted an application pursuant to section 204 of the Federal Power Act seeking authorization to issue up to $50,000,000 in Senior Secured Notes.

Comment Date: 5 p.m. eastern time on December 6, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E4-3441 Filed 12-1-04; 8:45 am]

BILLING CODE 6717-01-P